COMMISSION ON CIVIL RIGHTS

Agenda and Notice of Public Meetings of the Connecticut Advisory Committee

Notice is hereby given, pursuant to the provisions of the rules and regulations of the U.S. Commission on Civil Rights (Commission), and the Federal Advisory Committee Act (FACA), that both an orientation meeting and planning meeting of the Connecticut Advisory Committee to the U.S. Commission on Civil Rights will convene at 1 p.m. on Wednesday, May, 26, 2009 in Room 2600, located in the Legislative Building, 210 Capitol Avenue, Hartford, Connecticut. The purpose of the orientation meeting is to inform members about the rules and procedures applicable to members of the Committee, including Federal ethics and laws and rules of conduct, and to the operations of Committee members. The purpose of the planning meeting is to review civil rights issues in the State and plan future activities.

Members of the public are entitled to submit written comments. The address is Eastern Regional Office, 624 9th St., NW., Washington, DC 20425. Persons wishing to e-mail their comments, or who desire additional information should contact Alfreda Greene, Secretary, at 202-376-7533 or by e-mail to: ero@usccr.gov.

Hearing-impaired persons who will attend the meetings and require the services of a sign language interpreter should contact the Regional Office at least two (2) working days before the scheduled date of the meetings.

Records generated from these meetings may be inspected and reproduced at the Eastern Regional Office, as they become available, both before and after the meetings. Persons interested in the work of this advisory committee are advised to go to the Commission's Web site, http://www.usccr.gov, or to contact the Eastern Regional Office at the above e-mail or street address.

The meetings will be conducted pursuant to the provisions of the rules and regulations of the Commission and FACA.

Dated in Washington, DC, May 18, 2009.
Christopher Byrnes,
Chief, Regional Programs Coordination Unit.

[FR Doc. E9-11954 Filed 5-21-09; 8:45 am]

BILLING CODE 6335-01-P